DEPARTMENT OF THE INTERIOR

Bureau of Land Management

43 CFR Part 1820

[WO-630-1820-PO-24-1A]

RIN 1004-AD72

Application Procedures, Execution and Filing of Forms: Correction of State Office Addresses for Filings and Recordings, Proper Offices for Recording of Mining Claims

AGENCY: Bureau of Land Management, Interior.

ACTION: Final rule.

SUMMARY: This administrative final rule amends the regulations pertaining to execution and filing of forms in order to reflect the new address of the Utah State Office of the Bureau of Land Management (BLM), which moved in May 2005. All filings and other documents relating to public lands in Utah must be filed at the new address of the State Office.

DATES: Effective August 5, 2005.

FOR FURTHER INFORMATION CONTACT: Cynthia Ellis, Regulatory Affairs, (202) 452-5012. Persons who use a telecommunications device for the deaf (TDD) may call the Federal Information Relay Service (FIRS) at 1-800-877-8339, 24 hours a day, 7days a week.

ADDRESSES: You may send inquiries or suggestions to Director (630), Bureau of Land Management, Eastern States Office, 7450 Boston Boulevard, Springfield, Virginia 22153; Attention: RIN 1004-AD72.

SUPPLEMENTARY INFORMATION: This administrative final rule reflects the administrative action of changing the address of the Utah State Office of BLM. It changes the street address for the personal filing of documents relating to public lands in Utah, but makes no other changes in filing requirements. This rule is an administrative action to change the address for one BLM State Office. The BLM has determined that it has no substantive impact on the public, imposes no costs, and merely updates a list of addresses included in the Code of Federal Regulations for the convenience of the public. The Department of the Interior, therefore, for good cause finds under 5 U.S.C. 553 (b)(B) and 553 (d)(3) that notice and public procedures are unnecessary and that the rule may take effect upon publication.

Procedural Matters

Regulatory Planning and Review (Executive Order 12866)

This final rule is an administrative action to change the address for one BLM State Office. This rule was not subject to review by the Office of Management and Budget under Executive Order 12866. It imposes no costs, and merely updates a list of addresses included in the Code of Federal Regulations for the convenience of the public.

Regulatory Flexibility Act

This final rule is a purely administrative regulatory action having no effects upon the public or the environment, it has been determined that the rule will not have a significant effect on the economy or small entities. Further, the Department has determined under the Regulatory Flexibility Act (5 U.S.C. 601, et seq.) that it will not have a significant economic impact on a substantial number of small entities. Reporting address change for this BLM State Office will not have any economic impact whatsoever.

Small Business Regulatory Enforcement Fairness Act

This final rule is a purely administrative regulatory action having no effects upon the public or the economy. This is not a major rule under SBREFA (5 U.S.C. 804(2)).

Paperwork Reduction Act of 1995

This final rule is a purely administrative regulatory action having no effects upon the public or on information collections. This rule does not contain information collection requirements that require approval by the Office of Management and Budget under 44 U.S.C. 3501 et seq.

Takings Implication Assessment (Executive Order 12630)

As required by Executive Order 12630, the Department of the Interior has determined that the rule would not cause a taking of private property. No private property rights would be affected by a rule that merely reports address change for this BLM State Office. The Department therefore certifies that this proposed rule does not represent a governmental action capable of interference with constitutionally protected property rights.

Civil Justice Reform (Executive Order 12988)

This final rule is a purely administrative regulatory action having no effects upon the public and will not unduly burden the judicial system and meets the requirements of Sections 3(a) and 3(b)(2) of the Executive Order.

National Environmental Policy Act

This final rule is a purely administrative regulatory action having no effects upon the public or the environment, it has been determined that the rule is categorically excluded from review under section 102(2)(C) of the National Environmental Policy Act of 1969 (42 U.S.C. 4332(2)(C)).

Unfunded Mandate Reform Act of 1995 (Executive Order 12866)

This final rule is a purely administrative regulatory action and will not impose an unfunded mandate on state, local, or tribal governments.

Consultation and Coordination With Indian Tribal Governments (Executive Order 13175)

This final rule is a purely administrative regulatory action and has no tribal implications that impose substantial direct compliance costs on Indian tribal governments.

Effects on the Nation's Energy Supply (Executive Order 13211)

This final rule is a purely administrative regulatory action and has no implications under Executive Order 13211.

Clarity of the Regulations (Executive Order 12866)

Executive Order 12866 requires each agency to write regulations that are simple and easy to understand. The BLM invites your comments on how to make these regulations easier to understand, including answers to questions such as the following:

1. Are the requirements in the final regulations clearly stated?

2. Do the final regulations contain technical language or jargon that interferes with clarity?

3. Does the format of the final regulations (grouping and order of sections, use of headings, paragraphing, etc.) aid or reduce their clarity?

4. Would the final regulations be easier to understand if they were divided into more (but shorter) sections?

5. Is the description of the final regulation in Supplementary Information section of this preamble helpful in making the final regulation easier to understand?

Please send any comments you have on the clarity of the regulations to the address specified in the ADDRESSES section.

List of Subjects in 43 CFR Part 1820

Administrative practice and procedure, Archives and records, Public lands.

Dated: July 21, 2005.
J. O. Ratliff,
Acting Assistant Secretary, Land and Minerals Management.

For the reasons discussed in the preamble, the Bureau of Land Management amends 43 CFR part 1820 as follows:

PART 1820—APPLICATION PROCEDURES

1. The authority citation for part 1820 continues to read as follows:

Authority: 5 U.S.C. 552, 43 U.S.C. 2, 1201, 1733, and 1740.

Subpart 1821—General Information

2. Amend § 1821.10 by revising paragraph (a) to update the location and address of the Bureau of Land Management State Office in Utah to read:

§ 1821.10 Where are BLM offices located?

(a) * * *

STATE OFFICES AND AREAS OF JURISDICTION

* * * * *

Utah State Office, 440 West 200 South, Suite 500, Salt Lake City, Utah 84101-1345.

* * * * *

[FR Doc. 05-15526 Filed 8-4-05; 8:45 am]

BILLING CODE 4310-84-P